DEPARTMENT OF AGRICULTURE

Food and Nutrition Service

Agency Information Collection Activities: Supplemental Nutrition Assistance Program Education (SNAP-Ed) Connection Resource Sharing Form

AGENCY: Food and Nutrition Service (FNS), United States Department of Agriculture (USDA).

ACTION: Notice and request for comments.

SUMMARY: In accordance with the Paperwork Reduction Act of 1995, this notice invites the general public and other public agencies to comment on this proposed revision to the currently approved information collection for the Supplemental Nutrition Assistance Program (SNAP) form FNS-889, “SNAP Education (SNAP-Ed) Connection Resource Sharing Form.” This revision to the information collection will improve the submission process by clarifying the information requested for certain fields, thus providing data that is accurate and beneficial to stakeholders using the resource. These updates will also align with the new SNAP-Ed National Program Evaluation and Reporting System (N-PEARS) (OMB Control #0584-0683, expiration 4/30/2026), to ensure consistency with SNAP-Ed specific terms. With this update to form FNS-889, FNS has determined that nutrition and physical activity interventions (i.e., educational materials, curricula, etc.), will no longer be accepted through this information collection.

DATES: Comments on this notice must be received on or before February 6, 2024 to be assured of consideration.

ADDRESSES: Comments may be sent to Aurora Calvillo Buffington, Food and Nutrition Service, Supplemental Nutrition Assistance Program, Program Administration and Nutrition Division, 1320 Braddock Place, 5th Floor, Alexandria, VA 22314. Comments may also be submitted via email to snap-edconnection@usda.gov or through the Federal eRulemaking Portal. Go to http://www.regulations.gov, and follow the online instructions for submitting comments electronically.

All responses to this notice will be summarized and included in the request for Office of Management and Budget approval. All comments will become a matter of public record.

FOR FURTHER INFORMATION CONTACT: Requests for additional information or copies of this information collection should be directed to Brittany Souvenir at 703-305-2808 or Brittany.Souvenir@usda.gov.

SUPPLEMENTARY INFORMATION: Comments are invited on: (a) whether the proposed collection of information is necessary for the proper performance of agency functions, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology.

Title: SNAP-Ed Connection Resource Sharing Form.

Form Number: FNS-889.

OMB Control Number: 0584-0625.

Expiration Date: 06/30/2024.

Type of Request: Revision of currently approved data collection.

Abstract: In 2001, the United States Department of Agriculture's (USDA) Food and Nutrition Service (FNS) established the Food Stamp Nutrition Connection to improve access to Food Stamp Program Education resources. In 2008, FNS renamed the website the SNAP-Ed Connection. The website is developed and maintained at FNS. The SNAP-Ed Connection is a resource website for SNAP-Ed administrators and educators. SNAP-Ed personnel use the SNAP-Ed Connection website to locate curricula, participant materials, nutrition research, administrative documents, and information regarding SNAP-Ed program development, implementation, and evaluation. This resource website helps SNAP-Ed personnel find tools and information needed to implement high-quality evidence-based obesity prevention programs.

Within SNAP-Ed Connection is the SNAP-Ed Library, an online database of SNAP-Ed-related materials. SNAP-Ed personnel and other nutrition and public health agencies use the SNAP-Ed Connection Resource Sharing Form FNS-889, to voluntarily share information about resources that can be used to administer, develop, implement, or showcase SNAP-Ed programs.

Information collected via this form enables FNS to review these resources for possible inclusion in the SNAP-Ed Library. SNAP-Ed personnel and other interested parties then search this database via the SNAP-Ed Connection website https://snaped.fns.usda.gov to locate materials of interest. By using this database, SNAP-Ed-funded programs can share resources, reduce duplication of efforts, and improve program quality and integrity. SNAP-Ed-funded programs can also learn about useful nutrition education materials created by other organizations.

Prior to this proposed update, the FNS-889 was used to submit the following materials to the SNAP-Ed Library: nutrition and physical activity interventions (i.e., educational materials, curricula, etc.) appropriate for SNAP-eligible persons; materials related to the development, implementation, and administration of SNAP-Ed programs (e.g., staff training materials); and reports or other materials that demonstrate the effectiveness of SNAP-Ed funded programs.

Moving forward, FNS will no longer accept the submission of nutrition and physical activity interventions for the SNAP-Ed library through the SNAP-Ed Connection Resource Sharing Form. FNS will review and accept nutrition and physical activity interventions during the biennial SNAP-Ed Toolkit intervention submission process (OMB Control #0584-0639, expiration 9/30/2024). This change ensures FNS uses the same submission criteria for interventions submitted to the SNAP-Ed Library and the SNAP-Ed Toolkit. FNS will conduct a notice and comment period for an updated SNAP-Ed Toolkit intervention submission process in Fiscal Year 2024. The FNS-889 will continue to be used for all other currently accepted materials such as staff training materials and SNAP-Ed reports. Respondents will provide contact information, ordering information (if applicable), and information about the resource they are submitting.

Additionally, respondents will submit the form information through an online survey and email relevant attachments to the SNAP Program. This change will allow uninterrupted access to the form as the SNAP-Ed Connection website undergoes extensive changes and updates, including enhanced security measures for attachments. Revisions to this form may add an estimated 5 minutes of burden for respondents.

Revisions to the FNS-889 include updated data elements to clarify the requested information such as renaming the Format section to “Resource Type” and adding “school/community” to the “Garden” field. The updates also align with N-PEARS for consistent use of terms. For instance, the form includes the updated field names “Faith-based Centers” and “Tribes and Tribal Organizations,” which align with N-PEARS (OMB Control # 0584-0683, expiration 4/30/2026) and are widely understood by SNAP-Ed providers.

The following updates to FNS-889 are projected:

Removal of the “Add another item,” box used to submit attachments and replace with instructions to email attachments to the SNAP-Ed Connection email address.

Removal of the Evidence section.

Removal of seven fields from the Format section: “Curriculum,” “Evaluation Tools,” “FNS Materials,” “Guidance,” “PSE Change,” “SNAP-Ed Toolkit Interventions,” and “Social Marketing.”

Addition of Data element: Addition of a field “Webinar,” to the Format section.

Revision of Section title: Retitle Format section to “Resource Type.”

Revision of Data element: Revision of field name “Faith Centers,” in Setting section to “Faith-based Centers.”

Revision of Data element: Revision of field name “Indian Reservations,” in Setting section to “Tribal Reservations.”

Addition of Data element: Addition of language “school/community,” to the field “Gardens,” in the Setting section.

Addition of Data element: Addition of four fields “Tribes and Tribal Organizations,” “Individuals with Disabilities,” “People Experiencing Homelessness,” and “Food Pantry Clients,” to the Audience section.

Reporting

Affected Public: 19 State, Local and Tribal Agencies and 5 Businesses (for profit and non-profit). Respondents may include SNAP-Ed State, Local and Tribal Agencies, and others who implement SNAP-Ed or develop nutrition and public health training materials.

Estimated Number of Respondents: This revised collection is estimated to receive 24 responses per year. The estimated number of State, Local and Tribal Agency responses is 19, which is an increase from the current estimated number of 14. The estimated number of Businesses is 5, which is a decrease from the current estimated number of 10. The changes for these estimates are due to assumptions that more State, Local and Tribal Agencies will submit reports and staff training materials, and less Businesses will respond as interventions are no longer being accepted through this form.

Estimated Number of Responses per Respondent: This revised collection is estimated to receive 1.79 responses per respondent which is a reduction to the current estimated number of 4.44. The estimated decrease is due to interventions no longer being accepted through this form.

Estimated Total Annual Responses: This revised collection is estimated to receive 43 responses, which is a reduction to the current estimated total annual responses of 111. The estimated decrease in responses is due to interventions no longer being accepted through this form.

Estimated Time per Response: The estimated time per response for this voluntary collection is 0.25 hours (15 minutes), which is an increase from the current estimated time per response of 0.167 hours (10 minutes). The estimated increase in time per response is due to the change of submitting relevant attachments by email instead of through the database.

Estimated Total Annual Burden on Respondents: The estimated total annual burden on respondents for this voluntary collection is 10.75 hours, which is a reduction from the current estimated total annual burden hours of 18.54. The estimated decrease in total annual burden hours is due to interventions no longer being accepted through this form.

See burden estimate table below for details.

Burden Estimate Table
Respondent category | Instruments | Number of respondents | Frequency of response | Total annual responses | Hours per response | Annual burden (hours)
State, Local or Tribal Agencies | SNAP-Ed Connection Resource Sharing Form | 19 | 2 | 38 | 0.25 | 9.50
Business-for-not-for-profit | SNAP-Ed Connection Resource Sharing Form | 5 | 1 | 5 | 0.25 | 1.25
Total |  | 24 | 1.79 | 43 | 0.25 | 10.75

Tameka Owens,
Assistant Administrator, Food and Nutrition Service.

[FR Doc. 2023-26962 Filed 12-7-23; 8:45 am]

BILLING CODE 3410-30-P